DEPARTMENT OF ENERGY

Notice of Availability; Draft Environmental Impact Statement for the Orlando Gasification Project

AGENCY: Department of Energy.

ACTION: Notice of availability and public hearings.

SUMMARY: The U.S. Department of Energy (DOE) announces the availability of the document, Draft Environmental Impact Statement for the Orlando Gasification Project (DOE/EIS-0383), for public comment. The draft environmental impact statement (EIS) analyzes the potential environmental consequences of providing federal funding for the design, engineering, construction, and operation of facilities at Orlando Utilities Commission's (OUC's) existing Stanton Energy Center near Orlando, Florida. The project has been selected by DOE for further consideration under the Clean Coal Power Initiative (CCPI) to demonstrate advanced power generation systems using Integrated Gasification Combined Cycle (IGCC) technology. DOE has awarded a cooperative agreement to SCS for a project definition phase during which SCS will complete a detailed Project Management Plan, prepare environmental information and permit applications, and perform Front-End Engineering Design activities.

The Department prepared this draft EIS in accordance with the National Environmental Policy Act of 1969 (NEPA) (42 U.S.C. 4321 et seq.), the Council on Environmental Quality (CEQ) regulations that implement the procedural provisions of NEPA (40 CFR parts 1500-1508), and the DOE procedures implementing NEPA (10 CFR part 1021).

DOE's proposed action (and preferred alternative) is to provide cost-shared funding to design, construct, and operate the Orlando Gasification Project. Although DOE funding would support only the Orlando Gasification Project (i.e., coal gasifier, synthesis gas cleanup systems, and supporting infrastructure), the project would be integrated with a planned, privately funded, combined-cycle unit, which together would constitute the IGCC facilities. The facilities would convert coal into synthesis gas to drive a gas combustion turbine, and hot exhaust gas from the gas turbine would generate steam in a heat recovery steam generator (HRSG) to drive a steam turbine. Combined, the two turbines would generate 285 MW (megawatts) of electricity. The potential environmental impacts of this action are evaluated in this Draft EIS. DOE also analyzed the No-Action Alternative (not funding the demonstration), including a scenario reasonably expected to result as a consequence of the no-action alternative. Without DOE participation, Southern Company and/or OUC could reasonably pursue at least one option. The combined-cycle facilities could be built at the Stanton Energy Center without the gasifier, synthesis gas cleanup systems, and supporting infrastructure.

DATES: DOE invites the public to comment on the Draft EIS during the public comment period, which ends October 10, 2006. DOE will consider all comments postmarked or received during the public comment period in preparing the Final EIS, and will consider late comments to the extent practicable.

DOE will hold a public hearing on September 13, 2006, at Timber Creek High School, 1001 Avalon Park Boulevard, Orlando, Florida, 7 p.m. to 9 p.m. An informational session will be held at the same location from 5 p.m. to 7 p.m., preceding the public hearing on the date noted above.

ADDRESSES: Requests for information about this Draft EIS or to receive a copy of the Draft EIS should be directed to: Richard A. Hargis, Jr., NEPA Document Manager, U.S. Department of Energy, National Energy Technology Laboratory, M/S 922-342C, P.O. Box 10940, Pittsburgh, PA 15236. Additional information about the Draft EIS may also be requested by telephone at: (412) 386-6065, or toll-free at: (888) 322-7436, x6065.

The Draft EIS will be available at http://www.eh.doe.gov/nepa/. Copies of the Draft EIS are also available for review at the locations listed in the SUPPLEMENTARY INFORMATION section of this Notice. Written comments on the Draft EIS can be mailed to Richard A. Hargis, Jr., NEPA Document Manager, at the address noted above. Written comments may also be submitted by fax to: (412) 386-4775, or submitted electronically to: hargis@netl.doe.gov. Oral comments on the Draft EIS will be accepted only during the public hearing scheduled for the date and location provided in the DATES section of this Notice. Requests to speak at the public hearing can be made by calling or writing the EIS Document Manager (see ADDRESSES). Requests to speak that have not been submitted prior to the hearing will be accepted in the order in which they are received during the hearing. Speakers are encouraged to provide a written version of their oral comments for the record. Each speaker will be allowed five minutes to present comments unless more time is requested and available. Comments will be recorded by a court reporter and will become part of the public hearing record.

FOR FURTHER INFORMATION CONTACT: For further information on the proposed project or the draft environmental impact statement, please contact Mr. Richard A. Hargis, Jr., as directed above. For general information regarding the DOE NEPA process, please contact: Ms. Carol M. Borgstrom, Director, Office of NEPA Policy and Compliance (EH-42), U.S. Department of Energy, 1000 Independence Avenue, SW., Washington, DC 20585, Telephone: (202) 586-4600, or leave a message at: (800) 472-2756.

SUPPLEMENTARY INFORMATION:

Description of Alternatives

DOE analyzed two alternatives in the Draft EIS: The proposed action and the no-action alternative. Under the proposed action, DOE would provide cost-shared funding for construction and operation of gasification facilities at Orlando Utilities Commission's (OUC's) existing Stanton Energy Center near Orlando, Florida. The project has been selected by DOE under the Clean Coal Power Initiative (CCPI) to demonstrate advanced power generation systems using Integrated Gasification Combined Cycle (IGCC) technology. Although DOE funding would support only the Orlando Gasification Project (i.e., coal gasifier, synthesis gas cleanup systems, and supporting infrastructure), the project would be integrated with a planned, privately funded, combined-cycle unit, which together would constitute the IGCC facilities. The facilities would convert coal into synthesis gas to drive a gas combustion turbine, and hot exhaust gas from the gas turbine would generate steam from water to drive a steam turbine. Combined, the two turbines would generate 285 MW (megawatts) of electricity. The EIS evaluates potential impacts of the proposed facilities on land use, aesthetics, air quality, geology, water resources, floodplains, wetlands, ecological resources, social and economic resources, waste management, human health and safety, and noise.

Construction of the proposed facilities would begin in late 2007 and continue until early 2010. An average of about 350 construction workers would be on the site during construction. Approximately 600 to 700 workers would be required during the peak construction period between fall 2008 and spring 2009. After mechanical checkout of the proposed facilities, demonstration (including data analysis and process evaluation) would be conducted over a 4.5-year period from mid 2010 until late 2014. If the demonstration is successful, commercial operation would follow immediately. The combined workforce (i.e., including the proposed Orlando Gasification Project and the combined-cycle generating unit) would consist of approximately 72 employees added to the existing Stanton Energy Center staff of 204 employees. Of the 72 new employees, 19 workers would provide support only during the startup and demonstration phases of the project, while 53 employees would be needed over the lifetime of the facilities (i.e., during startup, demonstration, and commercial operation), unless the gasifier and related equipment would no longer be required because the demonstration was unsuccessful.

Under this latter scenario, only 21 employees would be needed over the lifetime of the remaining combined-cycle unit using natural gas exclusively. The facilities would be designed for a lifetime of at least 20 years, including the 4.5-year demonstration period. The new coal gasifier would operate entirely on coal, consuming a total of approximately 1,020,000 tons per year to produce synthesis gas. Two to three trains per week would deliver low-sulfur subbituminous coal from the Powder River Basin in Wyoming. The heating value of the coal would average about 8,760 Btu/lb and the sulfur content would average about 0.26%. Most air emissions would result from combustion of synthesis gas in the gas combustion turbine during normal operations. The exhaust gas would be released to the atmosphere via a 205 ft stack.

Sources of air emissions from the proposed facilities would include the HRSG stack, startup stack, multipoint flare, and 6-cell mechanical-draft cooling tower, of which the HRSG stack would generate the most emissions. Except during occasional startups, shutdowns, and upsets, the flare would normally have only minimal emissions associated with eight natural gas-fired pilot lights. Based on 100% load throughout the year (100% capacity factor) using the higher of estimated synthesis gas or natural gas emission rates, annual emissions of criteria pollutants would include 162 tons of SO2, 1,006 tons of NOX, 189 tons of particulate matter, 654 tons of carbon monoxide (CO), and 0.03 tons of lead (Pb). Annual NOX emissions from the Stanton Energy Center overall would not be expected to increase because OUC has agreed, as part of the permitting process, to reduce NOX emissions from other units at the Stanton Energy Center so that there would be a net decrease in NOX emissions. Annual emissions of volatile organic compounds (VOCs), a precursor of the criteria pollutant ozone, would be 129 tons.

Under the No Action Alternative, DOE would not provide cost-shared funding to demonstrate the Orlando Gasification Project. Without DOE participation, Southern Company and/or OUC could reasonably pursue at least one option. The combined-cycle facilities could be built at the Stanton Energy Center without the gasifier, synthesis gas cleanup systems, and supporting infrastructure. The combined-cycle facilities would operate using natural gas as fuel without the availability of synthesis gas. During operation of the natural gas-fired unit, emissions of air pollutants (e.g., SO2 and NOX) would be less than those predicted for the proposed Orlando Gasification Project. The flare required for the proposed facilities would not be required. This scenario would not provide a low-cost fuel source for the combined-cycle facilities and would not contribute to the goal of the CCPI program, which is to accelerate commercial deployment of advanced coal technologies that provide the United States with clean, reliable, and affordable energy.

Availability of the Draft EIS

Copies of this Draft EIS have been distributed to Members of Congress, Federal, State, and local officials, and agencies, organizations and individuals who may be interested or affected. This Draft EIS will be available on the Internet at: http://www.eh.doe.gov/nepa/. Additional copies can also be requested by telephone at: (412) 386-6065, or (888) 322-7436, x6065. Copies of the Draft EIS are also available for public review at the Alafaya Library, 1200 E. Colonial Dr., Orlando, Florida, 32803.

Issued in Washington, DC, on August 18, 2006.
Mark J. Matarrese,
Director, Office of Environment, Security, Safety and Health, Office of Fossil Energy.

[FR Doc. 06-7093 Filed 8-23-06; 8:45 am]

BILLING CODE 6450-01-P